DEPARTMENT OF ENERGY

Federal Energy Regulatory Commission

Combined Notice of Filings No 2

February 25, 2010.

Take notice that the Commission has received the following Natural Gas Pipeline Rate and Refund Report filings:

Docket Numbers: RP10-141-002.

Applicants: T.W. Phillips Pipeline Corporation.

Description: TW Phillips Pipeline Corp submits Substitute First Revised Sheet No 86 to replace First Revised Sheet No 86 with the January 19, 2010 filing.

Filed Date: 02/18/2010.

Accession Number: 20100219-0207.

Comment Date: 5 p.m. Eastern Time on Tuesday, March 02, 2010.

Docket Numbers: RP10-372-001.

Applicants: Rockies Express Pipeline LLC.

Description: Rockies Express Pipeline LLC submits Substitute Eleventh Revised Sheet No 8A to correct the error found on the previously-tendered sheet, to be effective 2/13/10.

Filed Date: 02/23/2010.

Accession Number: 20100224-0201

Comment Date: 5 p.m. Eastern Time on Monday, March 08, 2010.

Docket Numbers: RP10-325-001.

Applicants: Millennium Pipeline Company, LLC.

Description: Millennium Pipeline Company, LLC submits Substitute First Revised Sheet No 485 to FERC Gas Tariff, Original Volume No 1, to be effective 2/18/210.

Filed Date: 02/24/2010.

Accession Number: 20100224-0212.

Comment Date: 5 p.m. Eastern Time on Monday, March 08, 2010.

Docket Numbers: RP09-921-001; RP09-1042-001.

Applicants: CenterPoint Energy—Mississippi River Corporation

Description: CenterPoint Energy—Mississippi River Transmission Corporation submits Sub Sixty-Fifth Revised Sheet No. 5 et al to FERC Gas Tariff, Third Revised Volume No. 1.

Filed Date: 02/16/2010.

Accession Number: 20100217-0224.

Comment Date: 5 p.m. Eastern Time on Monday, March 01, 2010.

Docket Numbers: RP10-192-001.

Applicants: T. W. Phillips Pipeline Corp.

Description: TW Phillips Pipeline Corp submits its compliance filing of First Revised Sheet No.104 et al to FERC Gas Tariff, Original Volume No. 1.

Filed Date: 02/16/2010.

Accession Number: 20100217-0226.

Comment Date: 5 p.m. Eastern Time on Monday, March 01, 2010.

Docket Numbers: CP97-738-009.

Applicants: Enogex LLC.

Description: Petition for Order Amending Limited Jurisdiction Certificate of Enogex LLC.

Filed Date: 1/19/2010.

Accession Number: 20100119-5163.

Comment Date: 5 p.m. Eastern Time on Wednesday, March 03, 2010.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-4641 Filed 3-4-10; 8:45 am]

BILLING CODE 6717-01-P